DEPARTMENT OF COMMERCE

International Trade Administration

Antidumping Methodologies in Proceedings Involving Non-Market Economies: Valuing the Factor of Production: Labor; Correction to Request for Comment

AGENCY: Import Administration, International Trade Administration, Department of Commerce

DATES: Effective Date: March 1, 2011.

FOR FURTHER INFORMATION CONTACT: Christopher Mutz, (202) 482-0235, Office of Policy, Import Administration, Julia Hancock, (202) 482-1394, Office of Antidumping and Countervailing Duty Operations, Import Administration, U.S. Department of Commerce, 14th Street and Constitution Avenue, NW., Washington DC, 20230.

Correction:

On February 18, 2011, the Department of Commerce (“the Department”) published in the Federal Register a notice requesting public comment on the means by which it can best capture the cost of labor in its wage rate methodology in antidumping proceedings involving non-market economy (“NME”) countries. See Antidumping Methodologies in Proceedings Involving Non-Market Economies: Valuing the Factor of Production: Labor; Request for Comment, 76 FR 9544 (February 18, 2011) (“Labor Comment Notice”). As part of this process, the Department invited comments on the interim methodology for determining a surrogate value for wage rates that is currently being applied in antidumping proceedings for companies in NME countries.

Subsequent to the issuance of the Labor Comment Notice, we identified an error in the docket number through which comments must be submitted. All comments must be submitted through the Federal eRulemaking Portal at http://www.regulations.gov, Docket No. ITA-2011-0002, unless the commenter does not have access to the internet. Commenters that do not have access to the internet may submit the original and two copies of each set of comments by mail or hand delivery/courier. All comments should be addressed to the Secretary of Commerce, Attention: Christopher Mutz, Office of Policy, Room 1870, Import Administration, U.S. Department of Commerce, 14th Street and Constitution Avenue, NW., Washington, DC 20230. See Labor Comment Notice, 76 FR at 9547. To be assured of consideration, comments must be received no later than March 21, 2011.

Dated: February 23, 2011.
Paul Piquado,
Acting Deputy Assistant Secretary for Import Administration.

[FR Doc. 2011-4532 Filed 2-28-11; 8:45 am]

BILLING CODE 3510-DS-P